DEPARTMENT OF ENERGY

Federal Energy Regulatory Commission

[Docket No. RP96-272-026]

Northern Natural Gas Company; Notice of Proposed Changes in FERC Gas Tariff

January 17, 2001.

Take notice that on January 9, 2001, Northern Natural Gas Company (Northern) tendered for filing to become part of Northern's FERC Gas Tariff, Fifth Revised Volume No. 1, Substitute Fourteenth Revised Sheet No. 66, proposed to become effective on January 1, 2001.

Northern states that the above sheet is being filed to correct the volume previously reported for the negotiated rate transaction with OGE Energy Resources, Inc. in accordance with the Commission's Policy Statement on Alternatives to Traditional Cost-of-Service Ratemaking for Natural Gas Pipelines. The previously filed Sheet No. 66 incorrectly identified the volume as 4,100. The corrected volume is reflected on Substitute Fourteenth Revised Sheet No. 66. No other change has been made to this tariff sheet.

Northern further states that copies of the filing have been mailed to each of its customers and interested State Commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1919 Filed 1-22-01; 8:45 am]

BILLING CODE 6717-01-M